DEPARTMENT OF HEALTH AND HUMAN SERVICES

National Institutes of Health

Center for Scientific Review; Amended Notice of Meeting

Notice is hereby given of a change in the meeting of the Center for Scientific Review Special Emphasis Panel, Member Conflict: Alcohol and Glucose, October 16, 2013, 01:00 p.m. to October 16, 2013, 03:00 p.m., National Institutes of Health, 6701 Rockledge Drive, Bethesda, MD, 20892 which was published in the Federal Register on October 01, 2013, 78 FR 60297.

The meeting will be held on December 5, 2013 from 11:00 a.m. to 1:00 p.m. The meeting location remains the same. The meeting is closed to the public.

Dated: November 1, 2013.
Anna Snouffer,
Deputy Director, Office of Federal Advisory Committee Policy.

[FR Doc. 2013-26752 Filed 11-7-13; 8:45 am]

BILLING CODE 4140-01-P